ENVIRONMENTAL PROTECTION AGENCY

[EPA-HQ-OLEM-2023-0573; FRL-11875-01-OLEM]

Agency Information Collection Activities; Proposed Information Collection Request; Comment Request; RCRA Section 3007 Survey for Drum Reconditioning Facilities

AGENCY: Environmental Protection Agency (EPA).

ACTION: Notice.

SUMMARY: The Environmental Protection Agency (EPA) is planning to submit an information collection request (ICR), RCRA Section 3007 Survey for Drum Reconditioning Facilities (EPA ICR Number 2800.01, OMB Control Number 2050-NEW), to the Office of Management and Budget (OMB) for review and approval in accordance with the Paperwork Reduction Act. Before doing so, EPA is soliciting public comments on specific aspects of the proposed information collection as described below. This is a request for approval of a new collection. This notice allows for 60 days for public comments.

DATES: Comments must be submitted on or before June 24, 2024.

ADDRESSES: Submit your comments, referencing Docket ID Number EPA-HQ-OLEM-2023-0573, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Patrick Wise, Office of Resource Conservation and Recovery, Materials Recovery and Waste Management Division (MC 5303P), Environmental Protection Agency, 1200 Pennsylvania Ave. NW, Washington, DC 20460; telephone number: 202-566-0520; email address: wise.patrick@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: This information collection will provide the EPA with necessary information about the operations of drum reconditioners and similar facilities that clean out and recondition used industrial containers. The Agency needs this information to determine whether future regulatory or non-regulatory action is needed to address environmental issues identified in the EPA's Drum Reconditioner Damage Case Report, published in September 2022. The data collected through this ICR will advance the Agency's mission of protecting human health and the environment by determining the current engineering controls and standard practices employed at these facilities, and by collecting additional information about the environmental impacts these facilities may have on surrounding communities and the wider environment. All information submitted to the agency in response to the ICR that is claimed as confidential will be managed in accordance with applicable laws and EPA's regulations governing treatment of confidential business information at 40 CFR part 2, subpart B. Any information determined to constitute a trade secret will be protected under 18 U.S.C. 1905.

Form Numbers: None.

Respondents/Affected Entities: This ICR applies to all facilities engaged in drum and/or industrial container reconditioning and/or recycling.

Respondent's Obligation To Respond: Mandatory under section 3007 of RCRA (42 U.S.C. 6927).

Estimated Number of Respondents: 216 (total).

Frequency of Response: One-time response.

Total Estimated Burden: 1,187 hours (per year). Burden is defined at 5 CFR 1320.03(b).

Total Estimated Cost: $121,000 (per year), which includes $0 annualized capital or operation & maintenance costs.

Changes in the Estimates: Not applicable; this is a new ICR, so there is no previous burden.

Barry N. Breen,
Principal Deputy Assistant Administrator, Office of Land and Emergency Management.

[FR Doc. 2024-07972 Filed 4-23-24; 8:45 am]

BILLING CODE 6560-50-P